DEPARTMENT OF HOMELAND SECURITY

Coast Guard

[Docket No. USCG-2017-0854]

Meeting of the National Offshore Safety Advisory Committee

AGENCY: Coast Guard, Department of Homeland Security.

ACTION: Notice of Federal Advisory Committee meeting.

SUMMARY: The National Offshore Safety Advisory Committee and its Subcommittees will hold meetings in Houston, Texas to discuss the safety of operations and other matters affecting the offshore oil and gas industry. These meetings are open to the public.

DATES: The meetings will be held on Tuesday, December 12, 2017 and on Wednesday, December 13, 2017. The Safety Management Systems on Vessels Engaging in Well Intervention Activities Subcommittee of the National Offshore Safety Advisory Committee will meet on Tuesday, December 12, 2017 from 10 a.m. to 11:30 a.m. (All times are Central Time). Following this meeting the Regulatory Review Subcommittee will meet from 11:30 a.m. to 5 p.m.

The full Committee will meet on Wednesday, December 13, 2017, from 8 a.m. to 6 p.m. These meetings may end early if the Committee has completed its business, or the meetings may be extended based on the number of public comments.

ADDRESSES: The meetings will be held at the United States Coast Guard Sector Houston-Galveston, 13411 Hillard Street, Houston, Texas 77034. https://homeport.uscg.mil/mycg/portal/ep/portDirectory.do?tabId=1&cotpId=28#.

For information on facilities or services for individuals with disabilities, or to request special assistance at the meetings, contact the individuals listed in the FOR FURTHER INFORMATION CONTACT section as soon as possible.

Instructions: You are free to submit comments at any time, including orally at the meetings, but if you want Committee members to review your comment before the meetings, please submit your comments no later than November 24, 2017. We are particularly interested in comments on the issues in the “Agenda” section below. You must include “Department of Homeland Security” and the docket number USCG-2017-0854. Written comments must be submitted using the Federal eRulemaking Portal at http://www.regulations.gov. If you encounter technical difficulties with comment submission, contact the individuals listed in the FOR FURTHER INFORMATION CONTACT section below. Comments received will be posted without alteration at http://www.regulations.gov, including any personal information provided. You may review the Privacy Act and Security Notice for the Federal Docket Management System at https://regulations.gov/privacyNotice.

Docket Search: For access to the docket or to read documents or comments related to this notice, go to http://www.regulations.gov, insert USCG-2017-0854 in the Search box, press Enter, and then click on the item you wish to view.

A public oral comment period will be held during the meeting on December 13, 2017, and speakers are requested to limit their comments to 3 minutes. Contact one of the individuals listed below to register as a speaker.

FOR FURTHER INFORMATION CONTACT: Commander Jose Perez, Designated Federal Officer of the National Offshore Safety Advisory Committee, Commandant (CG-OES-2), U.S. Coast Guard, 2703 Martin Luther King Jr. Avenue SE., Stop 7509, Washington, DC 20593-7509; telephone (202) 372-1410, fax (202) 372-8382 or email jose.a.perez3@uscg.mil, or Mr. Patrick Clark, telephone (202) 372-1358, fax (202) 372-8382 or email Patrick.w.clark@uscg.mil.

SUPPLEMENTARY INFORMATION: Notice of this meeting is in compliance with the Federal Advisory Committee Act, Title 5 United States Code Appendix. The National Offshore Safety Advisory Committee provides advice and recommendations to the Department of Homeland Security on matters relating to activities directly involved with or in support of the exploration of offshore mineral and energy resources insofar as they relate to matters within Coast Guard jurisdiction.

A copy of all meeting documentation will be available at https://homeport.uscg.mil/nosac no later than November 24, 2017. Alternatively, you may contact Mr. Patrick Clark as noted in the FOR FURTHER INFORMATION CONTACT section above.

Agenda

Day 1

The National Offshore Safety Advisory Committee's Subcommittee on “Safety Management Systems on Vessels Engaging in Well Intervention Activities” will meet on December 12, 2017 from 10 a.m. to 11:30 a.m. to review, discuss, and formulate recommendations.

The National Offshore Safety Advisory Committee's Subcommittee on Regulatory Review will meet from 11:30 a.m. to 5:00 p.m. to review, discuss and formulate recommendations.

Day 2

The National Offshore Safety Advisory full Committee will hold a public meeting on December 13, 2017 from 8 a.m. to 6 p.m. (Central Time) to review and discuss the progress of, and any reports and recommendations received from the above listed Subcommittees from their deliberations on December 12, 2017. The Committee will then use this information and consider public comments in formulating recommendations to the United States Coast Guard. Public comments or questions will be taken at the discretion of the Designated Federal Officer during the discussion and recommendation portions of the meeting and during the public comment period, see Agenda item (9).

A complete agenda for December 13, 2017 full Committee meeting is as follows:

(1) Welcoming remarks.

(2) General Administration and accept minutes from July 2017 National Offshore Safety Advisory Committee public teleconference.

(3) Installation of new members.

(4) Installation of new Committee Chair.

(5) Current Business—Presentation and discussion of progress from the Subcommittee on Safety Management Systems on Vessels Engaging in Well Intervention Activities.

(6) Presentation and discussion of progress from the Regulatory Review Subcommittee.

(7) New Business—Outer Continental Shelf Industry Focus Forum.

(a) Eighth Coast Guard District Officer In Charge Marine Inspection Operational Update.

(b) Outer Continental Shelf National Center of Expertise Update.

(c) Bureau of Safety and Environmental Enforcement Gulf Region Update.

(d) Industry Regulatory Discussion

(8) Presentations on the following matters:

(a) U.S. Coast Guard Regulatory Status Update;

(b) U.S. Coast Guard Cyber Security Initiatives update;

(c) Maritime Administration Update.

(d) Update from the Bureau of Safety and Environmental Enforcement—Headquarters;

(9) Public comment period.

Minutes

Meeting minutes from this public meeting will be available for public view and copying within 90 days following the close of the meeting at the https://homeport.uscg.mil/nosac Web site.

Dated: October 19, 2017.
Jeffrey G. Lantz,
Director of Commercial Regulations and Standard.

[FR Doc. 2017-23138 Filed 10-24-17; 8:45 am]

BILLING CODE 9110-04-P